DEPARTMENT OF AGRICULTURE

Forest Service

Northwest Forest Plan Provincial Advisory Committees

AGENCY: Forest Service, USDA.

ACTION: Notice of Administrative Meetings for the Northwest Forest Plan Provincial Advisory Committees.

SUMMARY: The Secretary of Agriculture has established the Pacific Northwest Provincial Advisory Committees (PACs) to the Provincial Interagency Executive Committees (PIECs) for 12 provinces, which are areas set up under the Northwest Forest Plan. The PIECs facilitate the successful implementation of the Record of Decision for Amendments to the Forest Service and Bureau of Land Management Planning Documents within the Range of the Northern Spotted Owl (ROD) of April 13, 1994. The purpose of the PACs is to advise the PIECs on coordinating the implementation of the ROD. Each PAC provides advice regarding implementation of a comprehensive ecosystem management strategy for Federal land within a province. The PACs provide advice and recommendations to promote better integration of forest management activities between Federal and non-Federal entities to ensure that such activities are complementary.

The purpose of the administrative meetings will be to inform the current Provincial Advisory Committee membership of the following:

(1) Provincial Advisory Committees transitioning from subcommittees to full standing committees, under General Services Administration guidance.

(2) Inform the past PAC membership of Provincial Advisory Committee vacancies and nominations process.

DATES: Administrative Meetings for the Eastern Washington Cascades and Deschutes PACs will convene on the following dates:

Eastern Washington Cascades PAC: Monday, July 30, 2012, 2 p.m. to 3 p.m., Okanogan-Wenatchee National Forest Headquarters.

Addresses: 215 Melody Lane, Wenatchee, WA, 98801.

For Further Information Contact: Robin DeMario, 509-664-9292.

Yakima PAC: Tuesday, July 31, 2012, 2 p.m. to 3 p.m.

Addresses: Naches Ranger District, 10237 Highway 12, Naches, WA.

For Further Information Contact: Robin DeMario, 509-664-9292.

Deschutes PAC: Thursday, August 2, 2012, 5:30 p.m. to 7 p.m., Deschutes National Forest Headquarters

Addresses: 63095 Deschutes Market Rd., Bend, OR 97701.

For Further Information Contact: Mollie Chaudet, 541-383-5517.

Dated: July 3, 2012.
Nora B. Rasure,
Deputy Regional Forester.

[FR Doc. 2012-16773 Filed 7-9-12; 8:45 am]

BILLING CODE 3410-11-P